DEPARTMENT OF THE INTERIOR

Bureau of Reclamation

Draft Program Environmental Impact Statement/Environmental Impact Report (PEIS/R) and Public Hearings for San Joaquin River Restoration Program, California

AGENCY: Bureau of Reclamation, Interior.

ACTION: Notice of availability and public hearings.

SUMMARY: The Bureau of Reclamation and the California Department of Water Resources (DWR) have prepared a joint Draft PEIS/R, for the implementation of the Stipulation of Settlement (Settlement) in NRDC et al. v. Kirk Rodgers et al. The Settlement is based on two goals: (1) To restore and maintain fish populations in “good condition” in the mainstem of the San Joaquin River below Friant Dam to the confluence of the Merced River, including naturally reproducing and self-sustaining populations of salmon and other fish (Restoration Goal); and (2) to reduce or avoid adverse water supply impacts to all of the Friant Division long-term contractors that may result from the flows provided for in the Settlement (Water Management Goal). The Draft PEIS/R document evaluates the direct, indirect, and cumulative effects of implementing the Settlement. The alternatives considered in the Draft PEIS/R include actions that will be implemented to work towards achieving the Settlement's Restoration and Water Management goals.

DATES: The Draft PEIS/R will be available for a 60-day public review period. Comments are due by June 21, 2011.

Four public hearings have been scheduled to receive oral or written comments on the Draft PEIS/R:

• Tuesday, May 24, 2011, 10 a.m.-12:30 p.m., Visalia, CA.

• Tuesday, May 24, 2011, 6-8:30 p.m., Fresno, CA.

• Wednesday, May 25, 2011, 6-8:30 p.m., Los Banos, CA.

• Thursday, May 26, 2011, 1:30-4 p.m., Sacramento, CA.

A presentation and open house to view project information and interact with San Joaquin River Restoration Program (SJRRP) staff will precede the public hearings.

ADDRESSES: Send written comments on the Draft PEIS/R to Alicia Forsythe, SJRRP Program Manager, Bureau of Reclamation, 2800 Cottage Way, MP-170, Sacramento, CA 95825, or via e-mail at PEISRComments@restoresjr.net.

The public hearings will be held at the following locations:

• Visalia, CA at the Lamp Liter Inn Ballroom, 3300 West Mineral King Avenue.

• Fresno, CA at the Piccadilly Inn—University Grand Ballroom, 4961 North Cedar Avenue.

• Los Banos, CA at the Merced County Fairgrounds Germino Room, 403 F Street.

• Sacramento, CA at the Holiday Inn Capitol Plaza John Q. Ballroom, 300 J Street.

The Draft PEIS/R is available on the SJRRP Web site at http://www.restoresjr.net or Reclamation's Web site at http://www.usbr.gov/mp/nepa/nepa_projdetails.cfm?Project_ID=2940. If you would like to request a compact disc containing the document, please contact Ms. Margaret Gidding at 916-978-5461, or mgidding@usbr.gov.

FOR FURTHER INFORMATION CONTACT: Ms. Michelle Banonis at 916-978-5457, via fax at 916-978-5469, or e-mail at mbanonis@usbr.gov. Additional information is available online at http://www.restoresjr.net.

SUPPLEMENTARY INFORMATION: In 1988, a coalition of environmental groups, led by the Natural Resources Defense Council (NRDC), filed a lawsuit challenging the renewal of long-term water service contracts between the United States and the Central Valley Project (CVP) Friant Division contractors. After more than 18 years of litigation, this lawsuit, known as NRDC, et al., v. Kirk Rodgers, et al., was settled. On September 13, 2006, the Settling Parties, including NRDC, Friant Water Users Authority, and the U.S. Departments of the Interior and Commerce, agreed on the terms and conditions of the Settlement, which was subsequently approved by the U.S. District Court, Eastern District of California (Court) on October 23, 2006. The Settlement establishes two primary goals:

• Restoration Goal—To restore and maintain fish populations in “good condition” in the mainstem San Joaquin River below Friant Dam to the confluence of the Merced River, including naturally reproducing and self-sustaining populations of salmon and other fish.

• Water Management Goal—To reduce or avoid adverse water supply impacts on all of the Friant Division long-term contractors that may result from the Interim and Restoration flows provided for in the Settlement.

The planning and environmental review necessary to implement the Settlement is authorized under the San Joaquin River Restoration Settlement Act (Act), included in Public Law 111-11. The Secretary of the Interior is authorized and directed to implement the terms and conditions of the Settlement through the Act. The SJRRP, consisting of Reclamation, DWR, the U.S. Fish and Wildlife Service (FWS), the National Marine Fisheries Service (NMFS), and the California Department of Fish and Game (DFG), will work to implement the Settlement.

Reclamation, on behalf of the Secretary of the Interior, proposes to implement the terms and conditions of the Settlement, consistent with the Act. Additionally, the Settling Parties agreed that implementation of the Settlement will also require participation of the state of California (State). Therefore, concurrent with the execution of the Settlement, the Settling Parties entered into a Memorandum of Understanding with the State (by and through the California Resources Agency, DWR, DFG, and the California Environmental Protection Agency) regarding the State's role in the implementation of the Settlement. The “implementing agencies,” which include Reclamation, FWS, NMFS, DWR, and DFG, are responsible for the management of the program to implement the Settlement.

The Draft PEIS/R evaluates and documents numerous physical and operational actions that, when implemented, could potentially directly, indirectly, or cumulatively affect environmental conditions in the Central Valley. The Draft PEIS/R study area includes areas potentially affected by Settlement actions and involves the San Joaquin River, from Millerton Reservoir to the Sacramento-San Joaquin Delta, and the water service areas of the CVP and State Water Project, including the Friant Division.

The Draft PEIS/R considers a reasonable range of alternatives and analyzes the environmental effects of implementation of the Settlement. Seven alternatives are evaluated in the document, including a No-Action Alternative and six action alternatives. The Draft PEIS/R analyzes most activities that would be implemented at a program level. Actions analyzed at a program level in the Draft PEIS/R would require future project-specific environmental compliance. The Draft PEIS/R also analyzes the reoperation of Friant Dam to implement the Settlement at a project level. The project level review for the reoperation of Friant Dam comprises the entire NEPA analysis for this component of the Settlement. The Draft PEIS/R provides broad direction for a wide range of possible future project-level actions while allowing the opportunity for flexibility to respond to changing needs.

Copies of the Draft PEIS/R are available for public inspection and review, including the following locations:

• Bureau of Reclamation, 2800 Cottage Way, MP-170, Sacramento, California.

• Bureau of Reclamation, South-Central California Area Office, 1243 N Street, Fresno, California.

• California Department of Water Resources, South Central Region Office, 3374 East Shields Avenue, Fresno, CA.

• Visalia Branch Library, 200 West Oak Avenue, Visalia, CA.

• Central Branch, 2420 Mariposa Street, Fresno, CA.

• Sacramento Public Library, 828 I Street, Sacramento, CA.

• Merced County, Los Banos Public Library, 1312 S. 7th Street, Los Banos, CA.

Special Assistance for Public Meetings

If special assistance is required to participate in the public meetings, please contact Ms. Margaret Gidding at 916-978-5461, by TDD 916-978-5608, or via e-mail at mgidding@usbr.gov. Please contact Ms. Gidding at least 10 working days prior to the meetings.

Public Disclosure

Before including your name, address, phone number, e-mail address, or other personal identifying information in your comment, you should be aware that your entire comment, including your personal identifying information, may be made publicly available at any time. While you can ask us in your comment to withhold your personal identifying information from public review, we cannot guarantee that we will be able to do so.

Dated: October 28, 2010.
Pablo R. Arroyave,
Mid-Pacific Region.

Editorial Note: This document was received in the Office of the Federal Register on April 19, 2011.

[FR Doc. 2011-9744 Filed 4-21-11; 8:45 am]

BILLING CODE 4310-MN-P